ENVIRONMENTAL PROTECTION AGENCY

[FRL-8034-1]

Identification of Crittenden County, AR as a Zone Targeted for Economic Development

AGENCY: Environmental Protection Agency.

ACTION: Notice of availability.

SUMMARY: This notice announces the availability of the letter and technical support document (TSD) approving Arkansas' request to identify Crittenden County, Arkansas in the Memphis 8-Hour Ozone Nonattainment Area as a zone targeted for economic development under section 173(a)(1)(B) of the Clean Air Act. Arkansas will be responsible for developing New Source Review (NSR) regulations for the zone that the Environmental Protection Agency (EPA) will review and consider for approval as a revision of Arkansas' State Implementation Plan (SIP). The State rulemaking and EPA's SIP review process will provide the public opportunities to participate in the process to consider implementing regulations for the zone.

ADDRESSES: A copy of the approval letter and TSD may be accessed at the following Web site: http://www.epa.gov/earth1r6/6pd/air/pd-r/crittendencountyedz.htm. You may also obtain a copy of the documents or arrange to view them by contacting the following:

• E-mail: Jeff Robinson at robinson.jeffrey@epa.gov.

• Fax: Mr. Jeff Robinson, Air Permits Section (6PD-R), at fax number 214-665-6762.

• Mail: Mr. Jeff Robinson, Air Permits Section (6PD-R), Environmental Protection Agency, 1445 Ross Avenue, Suite 1200, Dallas, Texas 75202-2733.

FOR FURTHER INFORMATION CONTACT: Mr. Jeff Robinson, U.S. EPA, Region 6, Multimedia Planning and Permitting Division (6PD), 1445 Ross Avenue, Dallas, TX 75202-2733, telephone (214) 665-6435; fax number 214-665-7263; or electronic mail at robinson.jeffrey@epa.gov.

SUPPLEMENTARY INFORMATION: Section 173(a)(1)(B) of the Clean Air Act allows the Administrator to identify, in consultation with the Secretary of Housing and Urban Development, zones within non-attainment areas that should be targeted for economic development. Under Section 173(a)(1)(B), new or modified major stationary sources that locate in such a zone are relieved of the NSR requirement to obtain emission offsets if (1) the relevant SIP includes an NSR nonattainment program that has established emission levels for new and modified major sources in the zone (“growth allowance”), and (2) the emissions from new or modified stationary sources in the zone will not cause or contribute to emission levels that exceed such growth allowance. Section 172(c)(4) of the CAA requires that the growth allowance be consistent with the achievement of reasonable further progress, and will not interfere with attainment of the applicable National Ambient Air Quality Standard (NAAQS) by the applicable attainment date for the nonattainment area.

The EPA has completed its review of an application from Arkansas requesting that EPA consider identification of Crittenden County as a zone targeted for economic development under the Clean Air Act (CAA). In a letter dated February 13, 2006, EPA approved Arkansas' request to identify Crittenden County, Arkansas in the Memphis 8-Hour Ozone Nonattainment Area as a zone targeted for economic development under Section 173(a)(1)(B) of the Clean Air Act. Arkansas will be responsible for developing NSR regulations for the zone that EPA will review and consider for approval as a revision of Arkansas' SIP. The State rulemaking and EPA's SIP review process will provide the public opportunities to participate in the process to develop implementing regulations for the zone. The requirement to obtain offsets for new and modified sources subject to NSR permitting requirements in Crittenden County remains in effect until Arkansas adopts and EPA approves NSR program revisions necessary to implement the EDZ determination.

List of Subjects

Environmental protection, Air pollution control, Zone Targeted for Economic Development, Nonattainment.

Dated: February 13, 2006.
Stephen Johnson,
Administrator.

[FR Doc. E6-2410 Filed 2-17-06; 8:45 am]

BILLING CODE 6560-50-P